DEPARTMENT OF HOMELAND SECURITY

Federal Emergency Management Agency

[Docket ID FEMA-2015-0001; Internal Agency Docket No. FEMA-B-1538]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 10, 2015.
Roy E. Wright,
Deputy Associate Administrator for Insurance and Mitigation, Department of Homeland Security, Federal Emergency Management Agency.

State and county | Location and case No. | Chief executive officer of community | Community map repository | Online location of letter of map revision | Effective date of modification | Community No.
Alabama:
Jefferson | City of Leeds ((15-04-4032P) | The Honorable David Miller, Mayor, City of Leeds, 1040 Park Drive, Leeds, AL 35094 | Inspections Department, 1040 Park Drive, Leeds, AL 35094 | http://www.msc.fema.gov/lomc | Nov. 30, 2015 | 010125
St. Clair | City of Moody (15-04-4032P) | The Honorable Joe Lee, Mayor, City of Moody, 670 Park Avenue, Moody, AL 35004 | Inspection and Public Works Department, 670 Park Avenue, Moody, AL 35004 | http://www.msc.fema.gov/lomc | Nov. 30, 2015 | 010187
Colorado:
Douglas | Town of Castle Rock (15-08-0069P) | The Honorable Paul Donahue, Mayor, Town of Castle Rock, 100 North Wilcox Street, Castle Rock, CO 80104 | Utilities Department, 175 Kellogg Road, Castle Rock, CO 80109 | http://www.msc.fema.gov/lomc | Dec. 4, 2015 | 080050
Douglas | Unincorporated areas of Douglas County (15-08-0069P) | The Honorable Jill Repella, Chair, Douglas County Board of Commissioners, 100 3rd Street, Castle Rock, CO 80104 | Douglas County Public Works Department, 100 3rd Street, Castle Rock, CO 80104 | http://www.msc.fema.gov/lomc | Dec. 4, 2015 | 080049
Weld | City of Severance (15-08-0837P) | The Honorable Don Brookshire, Mayor, City of Severance, P.O. Box 339, Severance, CO 80546 | Town Hall, 231 West 4th Avenue, Severance, CO 80546 | http://www.msc.fema.gov/lomc | Nov. 27, 2015 | 080317
Florida:
Broward | City of Pembroke Pines (15-04-4500P) | The Honorable Frank C. Ortis, Mayor, City of Pembroke Pines, 10100 Pines Boulevard, Pembroke Pines, FL 33026 | Environmental Services Division, 13975 Pembroke Road, Pembroke Pines, FL 33027 | http://www.msc.fema.gov/lomc | Nov. 12, 2015 | 120053
Charlotte | Unincorporated areas of Charlotte County (15-04-6067P) | The Honorable Ken Doherty, Chairman, Charlotte County Board of Commissioners, 18500 Murdock Circle, Port Charlotte, FL 33948 | Charlotte County Community Development Department, 18500 Murdock Circle, Port Charlotte, FL 33948 | http://www.msc.fema.gov/lomc | Dec. 1, 2015 | 120061
Duval | City of Jacksonville (15-04-2570P) | The Honorable Alvin Brown, Mayor, City of Jacksonville, 117 West Duval Street, Suite 400, Jacksonville, FL 32202 | City Hall, 214 North Hogan Street, Suite 2100, Jacksonville, FL 32202 | http://www.msc.fema.gov/lomc | Nov. 12, 2015 | 120077
Manatee | Town of Longboat Key (15-04-2751P) | The Honorable Jack Duncan, Mayor, Town of Longboat Key, 501 Bay Isles Road, Longboat Key, FL 34228 | Town Hall, 501 Bay Isles Road, Longboat Key, FL 34228 | http://www.msc.fema.gov/lomc | Nov. 18, 2015 | 125126
St. Johns | Unincorporated areas of St. Johns County (15-04-5662P) | The Honorable James K. Johns, Commissioner, St. Johns County District 1, 500 San Sebastian View, St. Augustine, FL 32084 | St. Johns County Planning and Zoning Department, 4040 Lewis Speedway, St. Augustine, FL 32084 | http://www.msc.fema.gov/lomc | Nov. 19, 2015 | 125147
Georgia: Columbia | Unincorporated areas of Columbia County (15-04-4690P) | The Honorable Ron C. Cross, Chairman, Columbia County Board of Commissioners, P.O. Box 498, Evans, GA 30809 | Columbia County Engineering Services Department, 630 Ronald Reagan Drive, Building A, Evans, GA 30809 | http://www.msc.fema.gov/lomc | Nov. 19, 2015 | 130059
Massachusetts: Barnstable | Town of Barnstable (15-01-2052P) | The Honorable Jessica Rapp Grassetti, President, Town of Barnstable Council, 367 Main Street, Hyannis, MA 02601 | Town Hall, 367 Main Street, Hyannis, MA 02601 | http://www.msc.fema.gov/lomc | Nov. 16, 2015 | 250001
Montana:
Powder River | Town of Broadus (14-08-0420P) | The Honorable Milton L. Amsden, Mayor, City of Broadus, P.O. Box 659, Broadus, MT 59317 | Town Clerk's Office, P.O. Box 659, Broadus, MT 59317 | http://www.msc.fema.gov/lomc | Jan. 20, 2016 | 300058
Powder River | Unincorporated areas of Powder River County (14-08-0420P) | Mr. Darold Zimmer, Chairman, Powder River County Board of Commissioners, P.O. Box 200, Broadus, MT 59317 | Powder River County Clerk and Recorder's Office, P.O. Box 200, Broadus, MT 59317 | http://www.msc.fema.gov/lomc | Jan. 20, 2016 | 300163
North Carolina: Northampton | Town of Gaston (15-04-4075P) | The Honorable Jason Moore, Mayor, Town of Gaston, 223 Craige Street, Gaston, NC 27832 | Town Hall, 223 Craige Street, Gaston, NC 27832 | http://www.msc.fema.gov/lomc | Oct. 26, 2015 | 370413
Pennsylvania:
Blair | City of Altoona (14-03-3324P) | The Honorable Matt Pacifico, Mayor, City of Altoona, 1301 12th Street, Suite 100, Altoona, PA 16601 | Public Works Department, 1301 12th Street, Suite 300, Altoona, PA 16601 | http://www.msc.fema.gov/lomc | Nov. 27, 2015 | 420159
Blair | Township of Logan (14-03-3324P) | Mr. James A. Patterson, Chairman, Township of Logan Board of Supervisors, 100 Chief Logan Circle, Altoona, PA 16602 | Department of Zoning, 100 Chief Logan Circle, Altoona, PA 16602 | http://www.msc.fema.gov/lomc | Nov. 27, 2015 | 421391
Texas:
Collin | City of Frisco (15-06-0486P) | The Honorable Maher Maso, Mayor, City of Frisco, 6101 Frisco Square Boulevard, Frisco, TX 75034 | Engineering Services Department, 6101 Frisco Square Boulevard, Frisco, TX 75034 | http://www.msc.fema.gov/lomc | Dec. 7, 2015 | 480134
Dallas | City of Dallas (14-06-3370P) | The Honorable Michael S. Rawlings, Mayor, City of Dallas, 1500 Marilla Street, Dallas, TX 75201 | Department of Public Works, 320 East Jefferson Boulevard, Dallas, TX 75203 | http://www.msc.fema.gov/lomc | Nov. 30, 2015 | 480171
Ellis | City of Waxahachie (15-06-0140P) | The Honorable Kevin Strength, Mayor, City of Waxahachie, 401 South Rogers Street, Waxahachie, TX 75165 | City Hall, 401 South Rogers Street, Waxahachie, TX 75165 | http://www.msc.fema.gov/lomc | Dec. 2, 2015 | 480211
Harris | City of Houston (15-06-0275P) | The Honorable Annise D. Parker, Mayor, City of Houston, P.O. Box 1562, Houston, TX 77251 | Floodplain Management Office, 1002 Washington Avenue, 3rd Floor, Houston, TX 77002 | http://www.msc.fema.gov/lomc | Nov. 13, 2015 | 480296
Harris | Unincorporated areas of Harris County (15-06-1550P) | The Honorable Ed M. Emmett, Harris County Judge, 1001 Preston Street, Suite 911, Houston, TX 77002 | Harris County Permit Office, 10555 Northwest Freeway, Suite 120, Houston, TX 77092 | http://www.msc.fema.gov/lomc | Dec. 1, 2015 | 480287
Tarrant | City of Forest Hill (15-06-2903X) | The Honorable Gerald Joubert, Mayor, City of Forest Hill, 3219 California Parkway, Forest Hill, TX 76119 | City Hall, 3219 California Parkway, Forest Hill, TX 76119 | http://www.msc.fema.gov/lomc | Nov. 10, 2015 | 480595
Tarrant | City of Fort Worth (15-06-0370P) | The Honorable Betsy Price, Mayor, City of Fort Worth, 1000 Throckmorton Street, Fort Worth, TX 76102 | City Hall, 1000 Throckmorton Street, Fort Worth, TX 76102 | http://www.msc.fema.gov/lomc | Nov. 13, 2015 | 480596
Fort Bend | Unincorporated areas of Fort Bend County (14-06-2647P) | The Honorable Robert E. Hebert, Fort Bend County Judge, 401 Jackson Street, Richmond, TX 77469 | Fort Bend County Engineering Department, 301 Jackson Street, 4th Floor, Richmond, TX 77469 | http://www.msc.fema.gov/lomc | Nov. 13, 2015 | 480228
Waller | Unincorporated areas of Waller County (14-06-2647P) | The Honorable Carbett J. Duhon III, Waller County Judge, 836 Austin Street, Suite 203, Hempstead, TX 77445 | Waller County Emergency Management Department, 701 Calvit Street, Hempstead, TX 77445 | http://www.msc.fema.gov/lomc | Nov. 13, 2015 | 480640
Virginia: Independent City | City of Fairfax (14-03-2004P) | The Honorable Robert Sisson, Manager, City of Fairfax, 10455 Armstrong Street, Room 316, Fairfax, VA 22030 | Public Works Department, 10455 Armstrong Street, Room 200, Fairfax, VA 22030 | http://www.msc.fema.gov/lomc | Aug. 25, 2015 | 515524
Wisconsin:
Fond du Lac | Village of Campbellsport (14-05-3087P) | The Honorable David Krebs, President, Village of Campbellsport Board of Trustees, P.O. Box 709, Campbellsport, WI 53010 | Village Hall, 177 East Main Street, Campbellsport, WI 53010 | http://www.msc.fema.gov/lomc | Nov. 13, 2015 | 550133
Fond du Lac | Unincorporated areas of Fond du Lac County (14-05-3087P) | The Honorable Allen Buechel, Fond du Lac County Executive, 160 South Macy Street, Fond du Lac, WI 54935 | Fond du Lac County Code Enforcement Office, 160 South Macy Street, Fond du Lac, WI 54935 | http://www.msc.fema.gov/lomc | Nov. 13, 2015 | 550131

[FR Doc. 2015-24496 Filed 9-25-15; 8:45 am]

BILLING CODE 9110-12-P